DEPARTMENT OF HEALTH AND HUMAN SERVICES

Centers for Medicare & Medicaid Services

[CMS-6027-N]

Medicare Program; September 30, 2004 Open Door Forum: Requirements for Coordination Between Plans Primary or Secondary to Medicare Part D Under the Medicare Prescription Drug, Improvement, and Modernization Act of 2003 (MMA)

AGENCY: Centers for Medicare & Medicaid Services (CMS), HHS.

ACTION: Notice.

SUMMARY: This notice announces a September 30, 2004 Open Door Forum for the purpose of discussing the establishment of requirements of benefit coordination among Medicare Part D plans, State Pharmaceutical Assistance Programs (SPAPs), States, pharmaceutical benefit managers, employers, data processing experts, pharmacists, pharmaceutical manufacturers, and other interested and affected parties (or customers and partners). This Forum will enable interested parties to comment and raise issues regarding requirements for enrollment file-sharing, claims processing, claims reconciliation reports, application of the catastrophic out-of-pocket protection under Section 1860D-2(b)(4) and other administrative procedures under the provisions of the Medicare Prescription Drug, Improvement, and Modernization Act of 2003 (MMA) (Pub. L. 108-173). Interested parties will also have the opportunity to ask questions and raise issues regarding the potential paperwork burden that these MMA provisions may impose. The MMA requires that these requirements be established before July 1, 2005.

DATES: The Open Door Forum is scheduled for September 30, 2004, from 2 p.m. to 4 p.m., e.d.t.

ADDRESSES: The Open Door Forum will be held in the Centers for Medicare & Medicaid Services (CMS) Multipurpose Room, located at 7500 Security Boulevard, Baltimore, MD 21244. Please note that meeting space is limited to 250 persons. However, a phone line will be available for those who wish to call in for the meeting. Please check the Open Door Forum Web site for call-in information at http://www.cms.hhs.gov/opendoor/ or contact Sabrina Lopez at 410-786-6884.

Written Statements and Requests: We will accept written questions about meeting logistics or requests for meeting materials either before the meeting or up to 14 days after the meeting. Written submissions must be sent to: Troop, Centers for Medicare & Medicaid Services, 7500 Security Boulevard, Mail Stop C3-14-16, Baltimore, MD 21244.

Public Comments: Public comments must be sent to: Troop, Centers for Medicare & Medicaid Services, 7500 Security Boulevard, Mail Stop C3-14-16, Baltimore, MD 21244.

Web site: Additional details and materials regarding the Open Door Forum meeting and process, along with information on how to register, will be posted before the first meeting date on the official CMS Open Door Forum Web site: http://www.cms.hhs.gov/opendoor/.

FOR FURTHER INFORMATION CONTACT: Sabrina Lopez, (410) 786-6884.

SUPPLEMENTARY INFORMATION:

I. Background

On November 20, 2003, the Congress passed the Medicare Prescription Drug, Improvement, and Modernization Act (MMA) (Pub. L. 108-173), which amended Title XVIII of the Social Security Act (the Act) and established the provisions of sections 1860D-23 and 1860D-24 of the Act.

Section 1860D-23 of the Act mandates requirements that ensure effective coordination between Medicare Part D plans (private prescription drug plans (PDPs) and Medicare Advantage prescription drug plans (MA-PDs)) and State Pharmaceutical Assistance Programs (SPAPs). Section 1860D-24 of the Act applies the 1860D-23 requirements to other types of plans, including, but not limited to, Medicaid plans, group health plans, Federal Employee Health Benefit Plans (FEHBPs), and military plans (such as Tricare).

The Secretary is required, when developing these requirements, to consult with State programs, the PDP sponsors, MA-PD organizations, States, pharmaceutical benefit managers, employers, data processing experts, pharmacists, pharmaceutical manufacturers, and other experts.

II. Registration

Registration Procedures: Individuals must register in advance of attending the Open Door Forum by sending an e-mail (containing the individual's name, company name, company address, telephone number, fax number, e-mail address, and special needs information) to the following address: specialodf@cms.hhs.gov, or contact Sabrina Lopez at 410-786-6884. Individuals must register by September 24, 2004.

III. Comment Format

Individuals may submit comments or questions in advance of the Open Door Forum to Troop@cms.hhs.gov by September 24, 2004. Comments or questions may also be submitted at the Forum if not available at the time of deadline.

Both in-person participants and those participating by telephone will be given an opportunity to participate. Comments and input will be sought from the attendees on an individual basis and not from the group as a whole.

Time for participants to comment and ask questions may be limited according to the number of registered participants. We will attempt to accommodate as many participants as possible that may wish to participate.

IV. General Information

The Open Door Forum will be held in a Federal government building; therefore, Federal measures are applicable.

In planning your arrival time, we recommend allowing additional time to clear security. In order to gain access to the building and grounds, participants must bring a government issued photo identification. Access may be denied to persons without proper identification.

Security measures also include inspection of vehicles, inside and out, at the entrance to the grounds. In addition, all persons entering the building must pass through a metal detector. All items brought to CMS, whether personal or for the purpose of demonstration or to support a presentation, are subject to inspection. We cannot assume responsibility for coordinating the receipt, transfer, transport, storage, set-up, safety, or timely arrival of any personal belongings or items used for demonstration or to support a presentation.

Please note that smoking is not permitted anywhere on the CMS single site campus.

Special Accommodations: Persons attending the meeting who are hearing or visually impaired and have special requirements, or a condition that requires special assistance or accommodations, must provide this information upon registering for the meeting.

Authority: Sections 1860D-23, 1860D-24, and 1860D-2 of the Social Security Act, as amended by the Medicare Prescription Drug, Improvement, and Modernization Act (MMA) (Pub. L. 108-173)

(Catalog of Federal Domestic Assistance Program No. 93.773, Medicare—Hospital Insurance Program; and No. 93.774, Medicare—Supplementary Medical Insurance Program)

Dated: September 8, 2004.
Mark B. McClellan,
Administrator, Centers for Medicare & Medicaid Services.

[FR Doc. 04-20689 Filed 9-13-04; 8:45 am]

BILLING CODE 4120-01-P